DEPARTMENT OF TRANSPORTATION

Federal Highway Administration

[FHWA-DC-2010-01-D]

Notice of Availability and Notice of Public Hearing for the Environmental Assessment for the Klingle Valley Trail

AGENCIES: Federal Highway Administration, District of Columbia Division; and District Department of Transportation; in cooperation with the National Park Service.

ACTION: Notice of availability of the Environmental Assessment for the Klingle Valley Trail Project; Notice of public hearing for and request for comments on the Environmental Assessment for Klingle Valley Trail Project.

SUMMARY: The U.S. Federal Highway Administration (FHWA) and the District Department of Transportation (DDOT) as lead agencies, and in cooperation with the National Park Service (NPS), announce the availability of the Environmental Assessment (EA) for the Klingle Valley Trail Project, pursuant to the requirements of the National Environmental Policy Act of 1969 (NEPA), 42 U.S.C. 4321-4347; the Council on Environmental Quality Regulations (40 CFR parts 1500-1508); and the FHWA Environmental Impact and Related Procedures (23 CFR 771). FHWA and DDOT will also be hosting a Public Hearing to provide citizens an opportunity to comment on the proposed project and EA. FHWA and DDOT will consider comments received (see DATES and ADDRESSES, below) in finalizing the EA. FHWA and DDOT will then determine whether to prepare an environmental impact statement or issue a finding of no significant impact if appropriate for the proposed action.

FOR FURTHER INFORMATION CONTACT: Federal Highway Administration, District of Columbia Division: Mr. Michael Hicks, Environmental/Urban Engineer, 1990 K Street, NW., Suite 510, Washington, DC 20006-1103, (202) 219-3536; or District Department of Transportation: Austina Casey, Project Manager, Planning, Policy and Sustainability Administration, 2000 14th Street, NW., 7th Floor, Washington, DC 20009, (202) 671-2740.

SUPPLEMENTARY INFORMATION: The EA has been prepared to evaluate a range of alternatives and impacts for the construction of a multi-use trail facility within the 0.7 mile barricaded portion of Klingle Road between Porter Street, NW., and Cortland Place, NW.; including the restoration of Klingle Creek. The purpose of the proposed action is to construct a multi-use trail facility using context sensitive design, to provide safe non-motorized transportation and recreational opportunities to the residents and visitors of the District of Columbia. The project needs are a culmination of safety concerns due to the deteriorated roadway and structures; social demands as presented in the Park and Recreation Open Space District element in the District Comprehensive Plan; system linkage provisions tying points west of Connecticut Avenue to the Rock Creek Park multi-use trail system; deficiencies in the existing infrastructure resulting in degraded habitat within Klingle Valley; and legislation: The District's Klingle Road Sustainable Development Act of 2008.

Four Alternatives for the proposed Klingle Valley Multi-Use Trail, including the No Action Alternative, were developed in accordance with the project objectives established to meet the project purpose and need and are analyzed in detail in the EA. The proposed trail alignment for all Action Alternatives (Alternatives 2, 3, and 4) lies within the existing DDOT right-of-way. The EA examines and evaluates the existing environmental conditions within the project area along with the environmental consequences and cumulative impacts of several alternatives for the proposed improvement.

DATES: The public hearing will be held on June 23, 2010 at the National Zoological Park, Visitor Center Auditorium, 3001 Connecticut Avenue, NW., Washington, DC 20008. The Public Hearing will consist of an open house from 6 p.m. to 6:30 p.m. followed by a formal presentation and opportunity to comment from 6:30 p.m. to 8 p.m. Comments on the EA must be received on or before July 6, 2010.

ADDRESSES: In addition to attending the Public Hearing, you may submit comments or requests for copies of the EA by any of the following methods:

• Project Web Site: http://www.klingletrail.com. Follow the instructions for submitting comments on the Web site.

• E-mail: comments@klingletrail.com.

• Mail: Austina Casey, Project Manager, Planning, Policy and Sustainability Administration, District Department of Transportation, 2000 14th Street, NW., 7th Floor, Washington, DC 20009.

Electronic copies may be downloaded for review from the project Web site and hard copies of the EA may also be viewed at the following locations:

District Department of Transportation, Planning, Policy, and Sustainability Administration, 2000 14th Street, NW., 7th Floor, Washington, DC 20009;

National Capital Planning Commission Library, 401 9th Street, NW., North Lobby, Suite 500, Washington, DC 20004;

Martin Luther King, Jr. Memorial Library, 901 G Street, NW., Washington, DC 20001;

Cleveland Park Branch Library, 3310 Connecticut Avenue, NW., Washington, DC 20008;

Mount Pleasant Library, 3162 Mt. Pleasant Street, NW., Washington, DC 20010.

Issued: May 27, 2010.
Joseph C. Lawson,
Division Administrator, Federal Highway Administration, District of Columbia Division.

[FR Doc. 2010-13485 Filed 6-4-10; 8:45 am]

BILLING CODE 4910-22-P